DEPARTMENT OF TRANSPORTATION

Federal Transit Administration

Limitation on Claims Against a Proposed Public Transportation Project—Silver Line Project

AGENCY: Federal Transit Administration (FTA), Department of Transportation (DOT).

ACTION: Notice.

SUMMARY: This notice announces final environmental actions taken by the Federal Transit Administration (FTA) regarding the construction of the Silver Line Project, formerly known as the Cotton Belt Corridor Regional Rail Project. The purpose of this notice is to publicly announce FTA's environmental decisions on the subject project and to activate the limitation on any claims that may challenge these final environmental actions.

DATES: A claim seeking judicial review of FTA actions announced herein for the listed public transportation project will be barred unless the claim is filed on or before April 17, 2023.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9 a.m. to 5 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA (42 U.S.C. 4321-4375), section 4(f) requirements (23 U.S.C. 138, 49 U.S.C. 303), section 106 of the National Historic Preservation Act (54 U.S.C. 306108), Endangered Species Act (16 U.S.C. 1531), Clean Water Act (33 U.S.C. 1251), Uniform Relocation and Real Property Acquisition Policies Act (42 U.S.C. 4601), and the Clean Air Act (42 U.S.C. 7401-7671q). This notice does not, however, alter or extend the limitation period for challenges of project decisions subject to previous notices published in the Federal Register. The project and actions that are the subject of this notice follow:

Project name and location: Silver Line Project, Tarrant, Dallas, and Collin Counties, Texas. Project Sponsor: Dallas Area Rapid Transit (DART). Project description: The project consists of a 26-mile double-track regional commuter rail line extending from Dallas-Fort Worth International (DFW) Airport to Shiloh Road in Plano. The alignment traverses seven cities: Grapevine, Coppell, Dallas, Carrollton, Addison, Richardson, and Plano. FTA issued a combined Final Environmental Impact Statement (FEIS) and Record of Decision (ROD) on November 9, 2018 for the project. Subsequently, FTA published a notice of limitation on claims against the project on March 19, 2019, per 23 U.S.C. 139(l). Since then, FTA has completed a series of re-evaluations of the project to address changes DART identified resulting from design modifications and stakeholder coordination. This notice only applies to the discrete actions taken by FTA under the re-evaluations, as described below.

Final agency actions: FTA determined for each re-evaluation that neither a Supplemental Environmental Impact Statement nor a Supplemental Environmental Assessment is necessary, and the November 2018 FEIS/ROD remains valid. Supporting documentation: Memorandum to File Phase A, concerning the relocation of the Equipment Maintenance Facility, dated October 30, 2020; Memorandum to File Phase B, concerning the Elimination of DFW pocket track, Deferral of DFW North Through Platform, Elimination of Oncor Tower Relocation at Cypress Waters Station, and Addition of new at-grade crossing—Huntington Road, dated December 16, 2021; Memorandum to File Phase C, concerning the Elimination of Adaptive Reuse of White Rock Creek Bridge, dated April 5, 2022; Memorandum to File Phase D, concerning Freight Infrastructure Improvements, dated April 5, 2022; and Memorandum to File Phase E, concerning Hillcrest Road Design Advancement, dated October 6, 2022. All supporting documentation can be viewed and downloaded from: https://www.dart.org/about/expansion/silverline.asp.

Authority: 23 U.S.C. 139(l)(1).

Mark A. Ferroni,
Deputy Associate Administrator for Planning and Environment.

[FR Doc. 2022-25204 Filed 11-17-22; 8:45 am]

BILLING CODE 4910-57-P